DEPARTMENT OF JUSTICE

Foreign Claims Settlement Commission

[F.C.S.C. Meeting and Hearing Notice No. 08-12]

Notice of Sunshine Act Meeting

The Foreign Claims Settlement Commission, pursuant to its regulations (45 CFR Part 503.25) and the Government in the Sunshine Act (5 U.S.C. 552b), hereby gives notice in regard to the scheduling of open meetings as follows:

Thursday, October 25, 2012: 2:30 p.m.—Oral hearings on Objection to Commission's Proposed Decisions in Claim No. LIB-II-133, LIB-II-134, LIB-II-135, LIB-II-136 and LIB-II-137.

Friday, October 26, 2012: 9:00 a.m.—LIB-II-171; 11:00 a.m.— LIB-II-193; 12:00 noon—LIB-II-194.

Status: Open.

All meetings are held at the Foreign Claims Settlement Commission, 600 E Street, NW., Washington, DC. Requests for information, or advance notices of intention to observe an open meeting, may be directed to: Judith H. Lock, Executive Officer, Foreign Claims Settlement Commission, 600 E Street NW., Suite 6002, Washington, DC 20579. Telephone: (202) 616-6975.

Jaleh F. Barrett,
Chief Counsel.

[FR Doc. 2012-25026 Filed 10-5-12; 4:15 pm]

BILLING CODE 4410-BA-P